DEPARTMENT OF THE INTERIOR

National Park Service

[NPS-NCR-WHHO-1011-8602; 3950-SZM]

Notice of Public Meeting and Request for Comments

AGENCY: National Park Service, Interior.

ACTION: Notice/Request for Public Meeting and Public Comments—The National Christmas Tree Lighting and the subsequent 31 day event.

SUMMARY: The National Park Service is seeking public comments and suggestions on the planning of the 2011 National Christmas Tree Lighting and the subsequent 31 day event.

DATES: The meeting will be held on November 10, 2011. Written comments will be accepted until November 10, 2011.

ADDRESSES: The meeting will be held at 9 a.m. on November 10, 2011, in Room 234 of the National Capital Region Headquarters Building, at 1100 Ohio Drive, SW., Washington, DC (East Potomac Park). Written comments may be sent to the Chief of Interpretation and Education, White House Visitor Center, 1100 Ohio Drive, SW., Washington, DC 20242. Due to delays in mail delivery, it is recommended that comments be provided by telefax at 202-208-1643 or by e-mail to Russell_Virgilio@nps.gov. Comments may also be delivered by messenger to the White House Visitor Center at 1450 Pennsylvania Avenue, NW., in Washington, DC.

FOR FURTHER INFORMATION CONTACT: Russell Virgilio at the White House Visitor Center weekdays between 9 a.m., and 4 p.m., at (202) 208-1631.

SUPPLEMENTARY INFORMATION: The National Park Service is seeking public comments and suggestions on the planning of the 2011 National Christmas Tree Lighting and the subsequent 31 day event, which opens on December 1, 2011, on the Ellipse (President's Park), south of the White House. In order to facilitate this process the National Park Service will hold a meeting at 9 a.m. on November 10, 2011, in Room 234 of the National Capital Region Headquarters Building, at 1100 Ohio Drive, SW., Washington, DC (East Potomac Park). Persons who would like to comment at the meeting should notify the National Park Service by November 7, 2011, by calling the White House Visitor Center weekdays between 9 a.m., and 4 p.m., at (202) 208-1631.

In addition public comments and suggestions on the planning of the 2011 National Christmas Tree Lighting and the subsequent 31 day event may be submitted in writing. Written comments may be sent to the Chief of Interpretation and Education, White House Visitor Center 1100 Ohio Drive, SW., Washington, DC 20242, and will be accepted until November 10, 2011. Before including your address, phone number, e-mail address, or other personal identifying information in your comment, be advised that your entire comment—including your personal identifying information—may be made publicly available at any time. While you can ask in your comment to withhold from public review your personal identifying information, we cannot guarantee that we will be able to do so.

Dated: October 6, 2011.
John Stanwich,
Deputy National Park Service Liaison to the White House.

[FR Doc. 2011-27598 Filed 10-24-11; 8:45 am]

BILLING CODE 4312-54-P